NATIONAL SCIENCE FOUNDATION

National Science Board; National Science Board Commission on 21st Century Education in Science, Technology, Engineering, and Mathematics (29127); Notice of Meeting

In accordance with the Federal Advisory Committee Act (Pub. L. 92-463, as amended), the National Science Board announces the following meeting:

Date and Time: Wednesday, February 21, 2007, 11:30 a.m.-1 p.m. EST (teleconference meeting)

Place: National Science Foundation, 4201 Wilson Blvd., Arlington, Virginia. Room II-535 will be available to the public to listen to this teleconference meeting.

Type of Meeting: Open.

Contact Person: Dr. Elizabeth Strickland, Commission Executive Secretary, National Science Board Office, National Science Foundation, 4201 Wilson Blvd., Arlington, VA 22230. Telephone: 703-292-4527. E-mail: estrickl@nsf.gov.

Purpose of Meeting: To discuss the report of the National Science Board's Commission on 21st Century Education in Science, Technology, Engineering, and Mathematics.

Agenda: Discussion of feedback from the National Science Board to the Commission on preliminary draft recommendations and discussion of the format of the complete report.

Reason for Late Notice: Time and date of meeting were not established until February 5, 2007.

Susanne Bolton,
Committee Management Officer.

[FR Doc. E7-2198 Filed 2-8-07; 8:45 am]

BILLING CODE 7555-01-P